COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete service(s) from the Procurement List that were furnished by nonprofit agencies employing persons who are blind or have other severe disabilities.

DATES: Comments must be received on or before: January 15, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following service(s) are proposed for deletion from the Procurement List:

Service Type: Switchboard Operation

Mandatory for: Veterans Affairs Medical Center: 718 Smyth Road, Manchester, NH

Designated Source of Supply: Northern New England Employment Services, Portland, ME

Contracting Activity: Veterans Affairs, Department of, 608-Manchester

Service Type: Mailroom Operation & Administrative Supp

Mandatory for: Veterans Affairs Medical Center: 718 Smyth Road, Manchester, NH

Designated Source of Supply: Northern New England Employment Services, Portland, ME

Contracting Activity: Veterans Affairs, Department of, 608-Manchester

Service Type: Custodial Services

Mandatory for: USDA, APHIS, PPQ, 843 13th Court, Unit 7, Riviera Beach, FL

Designated Source of Supply: Gulfstream Goodwill Industries, Inc., West Palm Beach, FL

Contracting Activity: Animal and Plant Health Inspection Service, USDA APHIS MRPBS

Michael R. Jurkowski,
Acting Director, Business Operations.

[FR Doc. 2022-27301 Filed 12-15-22; 8:45 am]

BILLING CODE 6353-01-P